OFFICE OF NAVAJO AND HOPI INDIAN RELOCATION

Submission for OMB Review; Comment Request for Review of a Collection of Information; Application for Relocation Benefits Under the Navajo and Hopi Indian Settlement Act (as Amended)

AGENCY: Office of Navajo and Hopi Indian Relocation (“ONHIR”).

ACTION: Notice.

SUMMARY: In accordance with the Paperwork Reduction Act of 1995, Public Law 104-13 (44 U.S.C. 3506 (c)(2)(A)), ONHIR has submitted the following collection of information to the Office of Management and Budget for review and clearance: Application for Relocation Benefits under the Navajo and Hopi Indian Settlement Act (as amended).

DATES: Written comments must be submitted within 30 days of the publication date of this notice.

ADDRESS FOR COMMENTS: Direct all comments in writing to Nathan Frey, Desk Officer, Office of Information and Regulatory Affairs, Office of Management and Budget, New Executive Office Building, Room 10102, Washington, DC 20503, or at OIRA_Submission@OMB.EOP.GOV.

FOR FURTHER INFORMATION CONTACT: Requests for additional information or copies of the information collection instruments and instructions should be directed to ONHIR's Paralegal Specialist Karen Glanz, at 928-779-2721 x 152, or at eligibility@onhir.gov.

SUPPLEMENTARY INFORMATION:

I. Abstract

Submitting an Application for Relocation Benefits (“Application”) ONHIR Form MM#1110.9 (for Navajo individuals) or ONHIR Form MM#1110.10 (for Hopi individuals) to ONHIR is required for all persons seeking such benefits under the Navajo-Hopi Settlement Act, as amended, Pub. L. 93-531 et al., 25 U.S.C. 640d et seq. (“the Act”) .The eligibility requirements are detailed in 25 CFR part 700 and summarized in ONHIR Policy Memorandum No. 14 (7/27/2009 Revision), a copy of which may be requested from ONHIR or found on the ONHIR Web site (http://onhir.gov, “ONHIR Eligibility” tab.) The information is used to determine whether an applicant is eligible for Relocation Benefits.

II. Method of Collection:

Navajo individuals interested in applying for relocation benefits must submit a completed, signed form MM#1110.9, Application for Relocation Benefits (Navajo), to the Office of Navajo and Hopi Indian Relocation. Hopi individuals interested in applying for relocation benefits must submit a completed, signed form MM#1110.10, Application for Relocation Benefits (Hopi), to the Office of Navajo and Hopi Indian Relocation. Documents (Applications) must be signed and executed subject to the penalties for perjury. Signed documents may be hand delivered, mailed (USPS or private delivery service [FedEx, UPS]); faxed or scanned and then e-mailed.

III. Data

Application for Relocation Benefits

Form Numbers: MM # 1110.9 and MM1110.10.

Type of Review: Regular submission.

Affected Public: Enrolled members of the Navajo Nation or Hopi Tribe contemplating filing Applications for Relocation Benefits and members of their families.

Estimated Number of Respondents: 500.

Proposed Frequency of Responses: One-time only.

The time needed to complete and file an Application for Relocation Benefits will vary depending on individual circumstances. As provided in 5 CFR 1320.3(b)(2), the information sought on the Application is information that Applicants can be assumed to have gathered and maintained in the normal course of their lives such as their age, marital status, children and employment and residence history. Consequently it is the Agency's position that the burden involved in completion of an Application would be limited to the time needed to read the Application; fill in the Application form itself and then transmit it to the Agency. The estimated average time is thirty minutes.

(1) Reviewing instructions—10 minutes.

(2) Acquiring, installing, and utilizing technology and systems—0.

(3) Adjusting the existing ways to comply with any previously applicable instructions and requirements—0.

(4) Searching data sources—5 minutes.

(5) Completing and reviewing the collection of information (form)—10 minutes.

(6) Transmitting, or otherwise disclosing the information—5 minutes.

Dated: February 1, 2010.
Lawrence A. Ruzow,
Alternate Certifying Officer-Attorney, ONHIR.

[FR Doc. 2010-3979 Filed 2-25-10; 8:45 am]

BILLING CODE 7560-01-P